DEPARTMENT OF AGRICULTURE

Office of the Secretary

Announcement of a Workshop on the Topic of “Future Energy Science and Education Initiatives Within the REE Mission Area”

AGENCY: Research, Education, and Economics, USDA.

ACTION: Notice of Workshop.

SUMMARY: In accordance with the section 3124a of Title 7 of the United States Code, the United States Department of Agriculture (USDA) announces an energy science and education workshop to be conducted by the Research, Education, and Economics Mission Area (REE).

DATES: The workshop will be held on September 5 and 6, 2007.

ADDRESSES: The workshop will take place at the Sheraton Crystal City Hotel, 1800 Jefferson Davis Highway, Arlington, VA 22202.

FOR FURTHER INFORMATION CONTACT: Joseph A. Dunn, PhD; telephone: (202) 720-3075; fax: (202) 690-2842; or e-mail: Joseph.Dunn@usda.gov.

SUPPLEMENTARY INFORMATION: On Wednesday, September 5, 2007, and Thursday, September 6, 2007, from 8 a.m. to 5 p.m. the REE mission area of the USDA will hold a workshop, including breakout sessions, to discuss and plan the scope and effectiveness of REE's research, extension, and economics programs as they relate to energy science and education. The purpose of this workshop is to obtain input from experts of the four REE Agencies, the Agricultural Research Service, the Cooperative State Research, Education and Economics Service, the National Agriculture Statistics Service and the Economics Research Service, along with experts from the mission area's Land-Grant partners, on energy science and education issues of high priority to the USDA and to the Nation. Particular emphasis will be placed on results from breakout sessions conducted within the workshop which will assist in the planning of future energy science and education initiatives within the purview of the four REE agencies.

On Wednesday, September 5 at 8 a.m. the workshop will begin with introductory remarks provided by the Under Secretary for Research, Education and Economics, Dr. Gale Buchanan. The workshop will conclude on Thursday, September 6 at 5 p.m. There will be an opportunity for public comment during the workshop. The findings of this workshop will be consolidated into a document containing the Mission Area's energy science and education vision and goals along with a roadmap for achieving this vision and goals. This document will be posted on the mission area Web site (www.ree.usda.gov).

Done in Washington, DC this 14th day of August, 2007.
Merle D. Pierson,
Deputy Under Secretary, Research, Education, and Economics.

[FR Doc. E7-16391 Filed 8-20-07; 8:45 am]

BILLING CODE 3410-11-P